DEPARTMENT OF HEALTH AND HUMAN SERVICES

[Document Identifier: OS-0990-0313]

Agency Emergency Information Collection Clearance Request for Public Comment

AGENCY: Office of the Secretary, HHS.

In compliance with the requirement of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherrette.funn@hhs.gov, or call the Reports Clearance Office on (202) 795-7714. Written comments and recommendations for the proposed information collections must be directed to the OS Paperwork Clearance Officer at the above email address within 7 days.

Proposed Project: National Blood Collection & Utilization Survey (NBCUS), OMB No. 0990-0313, Emergency Information Collection Clearance Request, Reinstatement with change.

Office: HHS, Office of the Assistant Secretary for Health, Office of HIV/AIDS & Infectious Disease Policy.

Abstract: The NBCUS is a biennial survey of the blood collection and utilization community to produce reliable and accurate estimates of national and regional collections, utilization and safety of all blood products. The survey questionnaire will be mailed to approximately 2,800 institutions that include hospitals and blood collection facilities selected from the American Hospital Association (AHA) annual survey database and AABB member list of blood collection facilities. The survey includes a core of standard questions on blood collection, processing, and utilization practices to allow for comparison with data from previous surveys. Questions to specifically address emerging and developing issues and technologies in blood collection and utilization are included.

Estimated Annualized Burden Table
Type of respondent | Number of respondents | Number of responses per respondent | Average burden hours per response | Total burden hours
Hospitals, blood collection centers, cord blood banks | 2,800 | 1 | 1 | 2,800

Terry Clark,
Asst Paperwork Reduction Act Reports Clearance Officer, Office of the Secretary.

[FR Doc. 2018-07535 Filed 4-11-18; 8:45 am]

BILLING CODE 4150-41-P